DEPARTMENT OF THE INTERIOR

Bureau of Land Management

[NV-030-03-1220-PD-241A]

Final Supplementary Rules for the Sand Mountain and the Walker Lake Recreation Areas; Churchill and Mineral Counties, NV

AGENCY: Bureau of Land Management, Interior.

ACTION: Final supplementary rules.

SUMMARY: The Carson City Field Office Manager establishes these supplementary rules to provide for the protection of persons, property, and public lands and resources. They consolidate and clarify rules published in previous Federal Register notices, establish that Sand Mountain will be subject to a user fee collection and establish additional supplemental rules of conduct for visitors to the Sand Mountain and the Walker Lake Recreation Areas.

EFFECTIVE DATE: March 12, 2003.

ADDRESSES: Mail: Manager, Carson City Field Office, 5665 Morgan Mill Road, Carson City, Nevada 89701. Personal or messenger delivery: 5665 Morgan Mill Road, Carson City, Nevada 89701. Internet e-mail: Christina_Miller@nv.blm.gov

FOR FURTHER INFORMATION CONTACT: Chris Miller, Outdoor Recreation Planner, or Chuck Pope, Assistant Manager, Non-Renewable Resources, Carson City Field Office, 5665 Morgan Mill Road, Carson City, Nevada 89701. Telephone (775) 885-6000. Persons who use a telecommunications device for the deaf (TDD) may call the Federal Information Relay Service (FIRS) at 1-800-877-8339, 24 hours a day, 7 days a week.

SUPPLEMENTARY INFORMATION:

I. Background

II. Discussion of Rule

III. Responses to Comments

IV. Procedural Matters

I. Background

BLM published the interim final supplementary rules at 43 CFR part 8365 on August 22, 2002. These supplementary rules were intended to amplify rules that were originally published in 1992. The period for public comment on the interim final rules expired on September 23, 2002. BLM received 36 public comment letters or other communications during this comment period.

The public lands affected by these restrictions are described as follows:

Sand Mountain Recreation Area

Mt. Diablo Meridian

T. 16 N., R 32 E.,

Sec. 4: Lots 1-4 inclusive, SW1/4NE1/4, S1/2NW1/4, N1/2SW1/4, SW1/4SW1/4;

Sec. 5: Lots 1-4 inclusive, S1/2N1/2, All public land north of U.S. Route 50;

T. 17 N., R 32 E.,

Sec. 15: S1/2S1/2;

Sec. 16: SE1/4SE1/4;

Sec. 20: SE1/4;

Sec. 21: All

Sec. 22: W1/2, NE1/4;

Sec. 28: All

Sec. 29: All

Sec. 32: All

Sec. 33: All

Walker Lake Recreation Area

Includes all public land east of U.S. Route 95 to Walker Lake within:

Mt. Diablo Meridian

T. 10 N., R 29 E.,

Sec. 5:

Sec. 8:

Sec. 17:

Sec. 20:

Sec. 29:

Sec. 32:

II. Discussion of Rules

Certain prohibited activities other than those included in the 1992 supplementary rules were recommended in the Recreation Area Management Plan for the Sand Mountain Recreation Area prepared in 1985. These recommendations subsequently were published as specific prohibited acts in the Federal Register on July 1, 1992. The Plan was supplemented in 1993, and these rules require minor modification and clarification.

Certain other supplementary rules are necessary in order to provide for the safety of visitors to the Recreation Areas. Speed limits are needed on access roads and in designated camping areas. Ignition of fireworks is a violation of State law and a danger to both persons and property.

We need to clarify existing rules to protect plant life, wildlife habitat and historic resources, and we are proposing additional rules due to increases in public use. Indiscriminate vehicle use in that portion of the Sand Mountain Recreation Area, where the off-road vehicle designation is “limited”, has destroyed vegetation, caused harassment of wildlife, and threatens the integrity of the Sand Springs Pony Express Station and Desert Study Area. These supplementary rules specifically identify those routes that are open to vehicle use within this “limited” designation area. Rules regarding the closure of certain lands within the Recreation Area to camping were published in the Federal Register on July 1, 1992. This notice contains a legal description of those lands and designates the area of Developed Recreation Site for the Walker Lake Recreation Area.

III. Responses to Comments

In this portion of the Supplementary Information, we will discuss the sections of the proposed rules upon which the public commented, or that need to be changed for some other reason. If we do not discuss a particular section or paragraph, it means that no public comments addressed the provision. However, we may change the wording of other sections where we find clarification or style changes necessary or appropriate, and there is no other need for substantive amendment in the final rule.

Section 1.a and Section 3.a: Two comments suggested not requiring whip flags to be attached to motorcycles. BLM considers that any vehicle driving on the dunes may be obscured from view by the crest of a dune and thus not seen by other drivers or pedestrians. The use of whip flags increases vehicle visibility and thereby improves recreation safety.

Section 1.c: We had three comments on lifting the restricted area or limited OHV area status at Sand Mountain. The limited OHV designations have been in place since 1988, CFR, Vol. 53, No. 179, page 35917, Sept. 15, 1988 (NV-030-08-4333-13). The restrictions and limited use areas protect cultural and biological resources, including a Pony Express station, which is a historical landmark surrounded by dune vegetation. This site has been closed to vehicle access since 1988.

Section 1 other comments: There were three comments on making it illegal not to wear helmets or riding double. The BLM feels these are more of a State issue and should be addressed by the State. In addition, there were two comments on using more of California State language for the regulations. The language used in these rules is common Code of Federal Regulation language and is enforceable as is.

Section 2. b. No comments addressed this paragraph of the supplementary rules. However, in the final rules we have extended the no camping restriction to three miles beyond the boundary of the Recreation Area instead of just one mile. Camping in this area to avoid paying camping fees could have serious negative impacts on two sensitive plant species and 35 historic and prehistoric cultural sites. We find the need to protect these resources constitutes good cause for changing this restriction without further opportunity for public comment. In addition, expansion of this camping restriction will protect two watering tanks maintained by a rancher who leases this area for cattle and a Navy radar site.

Section 2. c: We had a comment on how we will enforce some kind of noise regulation, especially at night. This enforcement will be based on the number of complaints law enforcement personnel receive on the situation, and will be focused on the campground proper. Use of the surrounding area is primarily for motorized recreation, so remoteness and tranquility are not resource values to be protected here, but we wish to assure our visitors that they will have a peaceful night's sleep.

Section 2. d and Section 3. j: At least half the comments concerned fees. Some individuals felt that no fees should be charged on public lands. Most felt our proposed weekly use fee of $20 was too high, but that the annual fee was fine. Many of the comments felt that fees are appropriate at Sand Mountain as long as they were used to improve the site. They had opinions on what resource and recreation projects the fees should be used for. The majority of comments said they wanted to see more of a BLM presence on site, law enforcement and otherwise. The BLM's current cost to run Sand Mountain, including facility maintenance and health and safety programs, justifies the current fee schedule.

Section 2. e: This rule was added based on verbal and written complaints about visitors roping off large areas during busy weekends. The campground is limited and there are no reserved spaces, thus the first come first served rule applies.

Section 3. e: Many individuals felt they should be able to light fireworks in the dunes area and did not like this restriction. BLM is complying with a Churchill County ordinance (9.08.020) prohibiting fireworks in the county.

Section 3. f: We received two comments on limiting noise in the campground and how the BLM will enforce this. See the response in Sec. 2 c.

Section 3. g: We had two comments regarding limiting glass containers on the dunes to prevent damaged tires. However, individuals thought they should be allowed to use glass containers in motor homes or closed vehicles. We amended this section to allow for such uses, because many items necessary for daily living in motor homes come in glass containers, the risk of litter from these sources is substantially less if they are used in the motor homes, and BLM is not inclined to perform routine searches of vehicles for glass containers. We will issue citations to persons found with glass containers outside of vehicles and motor homes.

Section 3. I: This section received the second most responses next to the fee issue. Most individuals felt a definition of gray water should be included or that gray water was not an issue. The BLM is concerned about the health and safety of 40,000-plus visitors a year. The definition was changed to prohibit gray water dumping from a vehicle or trailer. Visitors must dump their water at legal dumping stations presently located in Fallon.

Section 3. k: Two comments suggested that we require dogs to be on a leash or controlled by owners. The BLM felt this a reasonable safety request and added this.

Section 3. l: This rule prohibiting rolling object down dunes was added based on two written comments and many verbal comments received during the comment period by BLM staff at Sand Mountain addressing the safety hazard created by rolling tires down the dunes. The BLM felt this was covered under other recreation articles, but added this as a site specific-prohibited act because of ongoing behavior at Sand Mountain.

Supplementary Rules for the Walker Lake Recreation Area. We received no comments addressing Walker Lake. Thus, this section was left as presented in the interim final rule.

IV. Procedural Matters

These supplementary rules are not a significant regulatory action and are not subject to review by Office of Management and Budget under Executive Order 12866. These supplementary rules will not have an effect of $100 million or more on the economy. They will not adversely affect in a material way the economy, productivity, competition, jobs, the environment, public health or safety, or State, local, or tribal governments or communities. These supplementary rules will not create a serious inconsistency or otherwise interfere with an action taken or planned by another agency. These supplementary rules do not alter the budgetary effects of entitlements, grants, user fees, or loan programs or the right or obligations of their recipients; nor do they raise novel legal or policy issues.

BLM has determined that the supplementary rules are categorically excluded from environmental review under section 102(2)(C) of the National Environmental Policy Act, pursuant to 516 Departmental Manual (DM), Chapter 2, Appendix 1. In addition, the supplementary rules do not meet any of the 10 criteria for exceptions to categorical exclusions listed in 516 DM, Chapter 2, and Appendix 2. Pursuant to Council on Environmental Quality regulations (40 CFR 1508.4) and the environmental policies and procedures of the Department of the Interior, the term “categorical exclusions” means a category of actions which do not individually or cumulatively have a significant effect on the human environment and that have been found to have no such effect in procedures adopted by a Federal agency and for which neither an environmental assessment nor an environmental impact statement is required.

Congress enacted the Regulatory Flexibility Act of 1980, as amended, 5 U.S.C. 601-612, to ensure that Government regulations do not unnecessarily or disproportionately burden small entities. The RFA requires a regulatory flexibility analysis if a rule would have a significant economic impact, either detrimental or beneficial, on a substantial number of small entities. These supplementary rules are not a “major rule” as defined at 5 U.S.C. 804(2). These rules are limited in scope to a small parcel of public land and are intended to establish rules of conduct and acceptable behavior at the site for the protection of resources and the visiting public.

These supplementary rules do not impose an unfunded mandate on state, local, or tribal governments or the private sector of more than $100 million per year; nor do these supplementary rules have a significant or unique effect on state, local, or tribal governments or the private sector. These supplementary rules do not require funding or resources from state, local, or tribal governments. These supplementary rules do not affect private property or property rights nor are they intended to deny or constrain any valid existing right. Therefore, BLM is not required to prepare a statement containing the information required by the Unfunded Mandates Reform Act (2 U.S.C. 1531 et seq.).

These supplementary rules do not represent a government action capable of interfering with constitutionally protected property rights. The supplementary rules are applicable only on public land managed by the BLM and do not extend to adjacent private property. No taking of private property is contemplated in these supplementary rules. Therefore, the Department of the Interior has determined that the supplementary rules would not cause a taking of private property or require further discussion of takings implications under this Executive Order.

The supplementary rules will not have a substantial direct effect on the states, on the relationship between the national government and the states, or on the distribution of power and responsibilities among the various levels of government. These supplementary rules are intended to protect property, resources, and the visiting public on a designated area of public land. The scope and effect of these supplementary rules are limited to those public purposes and do not redefine or impact established governmental structures, responsibilities, policies, or procedures. Therefore, in accordance with Executive Order 13132, BLM has determined that these supplementary rules do not have sufficient Federalism implications to warrant preparation of a Federalism Assessment.

Under Executive Order 12988, we have determined that these supplementary rules will not unduly burden the judicial system and that these supplementary rules meet the requirements of sections 3(a) and 3(b)(2) of the Order. These supplementary rules have been written in plain text and are clearly understandable.

In accordance with Executive Order 13175, we have found that this final rule does not include policies that have tribal implications. These supplementary rules do not impact tribal lands nor are they intended to limit or interfere with any right or privilege granted to Native Americans.

These supplementary rules do not contain information collection requirements that the Office of Management and Budget must approve under the Paperwork Reduction Act of 1995, 44 U.S.C. 3501 et seq.

The principal author of these supplementary rules is Stanley Zuber of the Carson City Field Office, Bureau of Land Management, and Department of the Interior.

For the reasons stated in the preamble, and under the authority of 43 CFR part 8360, §§8364.1, 8365, 8365.1-2, 8365.1-6 and 8365.2, the BLM State Director, Nevada, issues the following supplementary rules:

Dated: November 26, 2002.
Robert V. Abbey,
State Director, Nevada.

Supplementary Rules for the Sand Mountain Recreation Area

Sec. 1 Motor Vehicle Rules

a. All motorized vehicles, other than those traveling on maintained roads, must be equipped with an 8 foot whip mast and a six (6) inch by twelve (12) inch solid red or orange colored safety flag. Flags may be pennant, triangle, square, or rectangular shape. The mast must be securely mounted on the vehicle and extend eight (8) feet from the ground to the mast tip when the vehicle is stopped. Safety flags must be attached within 10 inches of the tip of the whip mast with club or other flags mounted below safety flag or on another whip.

b. You must not operate any motorized vehicle in excess of 25 mph on any maintained road within the Recreation Area, or in excess of 15 mph within any designated camping area.

c. Within that portion of the Recreation Area where vehicle use is designated as “limited”, there are only two roads open to motorized vehicles. These roads are:

(1) The main access road leading from U.S. Route 50 to the northernmost restroom facility and,

(2) The secondary access road leading from the main access road to the parking area near the Sand Springs Pony Express Station and Desert Study Area.

d. No person shall drink an alcoholic beverage, or have in their possession or on their person any open container that contains an alcoholic beverage, while operating in or on a motorized vehicle.

Sec. 2 Other Restrictions on Recreation Use.

a. At Sand Mountain, you must camp only in the area designated for that purpose. The designated camping area is:

Mt. Diablo Meridian

T. 17 N., R. 32 E.,

Sec. 28 SW1/4:

b. You must not camp on any other public lands within the Sand Mountain Recreation Area, in Sec. 5, T.16N, R.32E, or within three miles of the boundary of the Recreation Area.

c. You must not operate or use any audio equipment, such as a radio, television, musical instrument, or other noise producing device, or motorized equipment, between the hours of 12 A.M. and 6 A.M. in a manner that makes unreasonable noise that disturbs other visitors; or operate or use a public address system without written authorization from the Field Office Manager.

d. Persons using the area will be subject to a user fee.

e. You must not enter, camp, park, or stay longer than one half hour within the Sand Mountain Recreation Area without properly paying required fees.

f. Reserving of camping spaces is prohibited; sites are allocated on a first come first serve basis.

Sec. 3 Prohibited Acts

You must not:

a. Operate a motorized vehicle in the Recreation Area without the attached safety flag as described under Sec. 1 a. of these supplementary rules;

b. Operate a motorized vehicle in excess of the posted speed limit;

c. Drink an alcoholic beverage, or have in your possession or on your person any open container that contains an alcoholic beverage, while operating in or on a motorized vehicle;

d. Camp outside the designated camping area described in Sec. 2 a. of these supplementary rules;

e. Discharge any firearms, fireworks, or projectiles;

f. Make any unreasonable noise that disturbs other visitors between the hours of 12 A.M. and 6 A.M. as described in Sec. 2 c. of these supplementary rules;

g. Possess or use any glass cup or bottle, empty or not, used for carrying any liquid for drinking purposes outside of enclosed vehicles, or camp trailers.

h. Bring in, dispose of or possess any firewood containing nails, screws, or other metal hardware.

i. Dump gray or wastewater at the Recreation Area directly from a vehicle or trailer. You must empty water and sewage tanks only at legal dumping stations. (The nearest one is presently located in Fallon.)

j. Use Sand Mountain Recreation Area without paying the user fee.

k. Keep animals not on a leash or tied. Animals must be kept on a leash not longer than six feet, whether held by hand or secured to a fixed object, or otherwise physically restricted at all times.

l. Freely roll down the dunes any object that creates a hazard to other users.

Sec. 4 Penalties

Under the Federal Land Policy and Management Act of 1976 (43 U.S.C. 1733(a)), any person failing to comply with the supplemental rules provided in the notice may be subject to imprisonment for not more than 12 months, or a fine in accordance with the applicable provisions of 18 U.S.C. 3571, other penalties in accordance with 43 U.S.C. 1733, or both.

Sec. 5 Administrative and Emergency Use

These supplementary rules do not apply to emergency or law enforcement personnel, or BLM employees engaged in the performance of their official duties.

Supplementary Rules for the Walker Lake Recreation Area

Sec. 1 Motor Vehicle Rules

a. No person shall operate any motorized vehicle in excess of 25 mph on any maintained road within the Recreation Area, or in excess of 15 mph within any designated camping area.

b. No person shall drink an alcoholic beverage, or have in their possession or on their person any open container that contains an alcoholic beverage, while operating in or on a motorized vehicle.

Sec. 2 Developed Recreation Site

The following lands are designated as the developed recreation site as defined in 43 CFR 8360.0-5(c): all public land east of U.S. Route 95 to Walker Lake within—

Mt. Diablo Meridian

T. 10 N., R 29 E.,

Sec. 29;

Sec. 32:

Rules stated in 43 CFR 8365.2 apply to this area.

Sec. 3 Other Restrictions on Recreation Use

No person shall operate or use any audio equipment, such as a radio, television, musical instrument, or other noise producing device, or motorized equipment, between the hours of 12 A.M. and 6 A.M. in a manner that makes unreasonable noise that disturbs other visitors; or operate or use a public address system without written authorization from the Field Office Manager.

Sec. 4 Prohibited Acts

You must not:

a. Operate a motorized vehicle in excess of the posted speed limit;

b. Drink an alcoholic beverage, or have in your possession or on your person any open container that contains an alcoholic beverage, while operating in or on a motorized vehicle;

c. Discharge any firearms, fireworks, or projectiles.

d. Make any unreasonable noise that disturbs other visitors between the hours of 12 A.M. and 6 A.M. as described in Sec. 2 c. of these supplementary rules.

e. Possess or use any glass cup or bottle, empty or not, used for carrying any liquid for drinking purposes outside of enclosed vehicles, or camp trailers.

f. Bring in, dispose of or possess any firewood containing nails, screws, and other metal hardware.

g. Dump gray or wastewater at Walker Lake Recreation Area directly from a vehicle or trailer. You must empty water and sewage tanks only at legal dumping stations. (The nearest one is presently located in Hawthorne.)

h. Keep animals not on a leash or tied. Animals must be kept on a leash not longer than six feet, whether hand held or secured to a fixed object, or otherwise physically restricted at all times.

Sec. 5 Penalties

Under the Federal Land Policy and Management Act of 1976 (43 U.S.C. 1733(a)), any person failing to comply with the supplemental rules provided in the notice may be subject to imprisonment for not more than 12 months, or a fine in accordance with the applicable provisions of 18 U.S.C. 3571, other penalties in accordance with 43 U.S.C. 1733, or both.

Sec. 6 Administrative and Emergency Use

These supplementary rules do not apply to emergency or law enforcement personnel, or BLM employees engaged in the performance of their official duties.

[FR Doc. 03-3168 Filed 2-7-03; 8:45 am]

BILLING CODE 4310-HC-P